ENVIRONMENTAL PROTECTION AGENCY

[FRL-9163-6]

Draft FY 2011-2015 EPA Strategic Plan

AGENCY: Environmental Protection Agency.

ACTION: Notice of Availability, request for public comments.

SUMMARY: The U.S. Environmental Protection Agency (EPA) is announcing the availability of the Draft FY 2011-2015 EPA Strategic Plan (Strategic Plan) for public review and comment, as part of the periodic update required by the Government Performance and Results Act (GPRA). The Agency's final Strategic Plan will be submitted to Congress by September 30, 2010. The Strategic Plan provides the Agency's long-term direction and strategies to improve environmental and human health over the next five years. For this notice, the EPA is seeking comment from individual citizens, states, tribes, local government, industry, the academic community, non-governmental organizations, and all other interested parties. The Agency is particularly interested in feedback addressing the goal narratives, cross-cutting fundamental strategies, and strategic measures, with a focus on new directions and strategies.

DATES: Comments must be received on or before July 30, 2010.

ADDRESSES: Submit your comments, identified by Docket ID No. EPA-HQ-OA-2010-0486, by one of the following methods (electronic submission preferred):

Electronic: Federal eRulemaking Portal: http://www.regulations.gov. Follow the on-line instructions for submitting comments.

Fax: ATTN: Vivian Daub, Director, Planning Staff, Fax number: (202) 564-1808.

Mail: ATTN: Vivian Daub, Director, Planning Staff.

Office of Planning, Analysis, and Accountability (Mail Code 2723A), Office of the Chief Financial Officer, U.S. Environmental Protection Agency, 1200 Pennsylvania Ave, NW., Washington, DC 20460.

Important: Please allow a minimum of two weeks from date postmarked to allow ample time for receipt.

FOR FURTHER INFORMATION CONTACT: Vivian Daub, Director, Planning Staff, Office of Planning, Analysis, and Accountability, Office of the Chief Financial Officer Strategic_Plan@epa.gov.

Instructions: EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/dockets/.

SUPPLEMENTARY INFORMATION:

Background

The GPRA holds federal agencies accountable for using resources wisely and achieving program results. Specifically, GPRA requires agencies to develop: Strategic Plans, which include a mission statement and set out long-term goals, objectives, and strategic measures over a five-year time horizon; Annual Performance Plans, which provide annual performance measures toward achieving the goals and objectives set forth in the Strategic Plan; and, Performance and Accountability Reports, which evaluate an agency's success in achieving the annual performance measures.

The Draft FY 2011-2015 EPA Strategic Plan reflects the Administrator's priorities for advancing environmental protection. The Plan presents five strategic goals to accelerate protection of the environment and human health and five cross-cutting fundamental strategies for changing the way the Agency works. The five strategic goals are: Taking Action on Climate Change and Improving Air Quality, Protecting America's Waters, Cleaning Up Our Communities, Ensuring the Safety of Chemicals and Preventing Pollution, and Enforcing Environmental Laws. The five cross-cutting fundamental strategies are: Expanding the conversation on environmentalism; working for environmental justice and children's health; advancing science, research, and technological innovation; strengthening state, tribal, and international partnerships; and strengthening EPA's workforce and capabilities. The Plan also identifies a suite of strategic measures by which the Agency will hold itself accountable.

Dated: June 3, 2010.
Maryann Froehlich,
Deputy Chief Financial Officer, Office of the Chief Financial Officer.

[FR Doc. 2010-14649 Filed 6-17-10; 8:45 am]

BILLING CODE 6560-50-P